DEPARTMENT OF COMMERCE

International Trade Administration

[A-570-848]

Freshwater Crawfish Tail Meat From the People's Republic of China: Initiation of Antidumping Duty New Shipper Reviews

AGENCY: Enforcement and Compliance, International Trade Administration, Department of Commerce.

DATED: Effective Date: October 31, 2014.

SUMMARY: The Department of Commerce (the Department) has determined that three requests for new shipper reviews of the antidumping duty order on freshwater crawfish tail meat from the People's Republic of China (PRC), meet the statutory and regulatory requirements for initiation.

FOR FURTHER INFORMATION CONTACT: Catherine Cartsos, AD/CVD Operations Office I, Enforcement and Compliance, International Trade Administration, U.S. Department of Commerce, 14th Street and Constitution Avenue NW., Washington, DC 20230; Telephone: (202) 482-1757.

SUPPLEMENTARY INFORMATION:

Background

The antidumping duty order on freshwater crawfish tail meat from the PRC published in the Federal Register on September 15, 1997.¹ Pursuant to section 751(a)(2)(B)(i) of the Tariff Act of 1930, as amended (the Act), we received three timely requests for new shipper reviews of the Order from Wuhan Coland Aquatic Products and Food Co., Ltd. (Coland), Weishan Hongda Aquatic Food Co., Ltd. (Hongda), and Hubei Yuesheng Aquatic Products Co., Ltd. (Hubei Yuesheng).² Each new shipper review applicant certified that it is both the producer and exporter of the subject merchandise upon which its request was based.³

¹ See Notice of Amendment to Final Determination of Sales at Less Than Fair Value and Antidumping Duty Order: Freshwater Crawfish Tail Meat From the People's Republic of China, 62 FR 48218 (September 15, 1997) (Order).

² See Coland's new shipper review request dated September 18, 2014 (Coland NSR request); Hongda's new shipper review request dated September 29, 2014 (Hongda NSR request); Hubei Yuesheng's new shipper review request dated September 30, 2014 (Hubei Yuesheng NSR request).

³ See Coland NSR request at page 1; Hongda NSR request at Exhibit 1; Hubei Yuesheng NSR request at Exhibit 2.

Pursuant to section 751(a)(2)(B)(i)(I) of the Act and 19 CFR 351.214(b)(2)(i), each new shipper applicant certified that it did not export subject merchandise to the United States during the period of investigation (POI).⁴ In addition, pursuant to section 751(a)(2)(B)(i)(II) of the Act and 19 CFR 351.214(b)(2)(iii)(A), each new shipper applicant certified that, since the initiation of the investigation, it has never been affiliated with any exporter or producer who exported subject merchandise to the United States during the POI, including those respondents not individually examined during the POI.⁵ As required by 19 CFR 351.214(b)(2)(iii)(B), each new shipper applicant also certified that its export activities were not controlled by the government of the PRC.⁶

⁴ See Coland NSR request at Attachment 1; Hongda NSR request at Exhibit 1; Hubei Yuesheng NSR request at Exhibit 2.

⁵ Id.

⁶ Id.

In addition to the certifications described above, pursuant to 19 CFR 351.214(b)(2), each new shipper applicant submitted documentation establishing the following: (1) The date on which it first shipped subject merchandise for export to the United States; (2) the volume of its first shipment; and (3) the date of its first sale to an unaffiliated customer in the United States.⁷

⁷ See Coland NSR request at Attachment 2; Hongda NSR request at Exhibit 2; Hubei Yuesheng NSR request at Exhibit 1.

Period of Review

In accordance with 19 CFR 351.214(g)(1)(A), the period of review (POR) for new shipper reviews initiated in the month immediately following the anniversary month will be the twelve-month period immediately preceding the anniversary month. Therefore, under the Order, the POR is September 1, 2013, through August 31, 2014.

Initiation of New Shipper Reviews

Pursuant to section 751(a)(2)(B) of the Act and 19 CFR 351.214(d)(1), the Department finds that the request from each new shipper applicant meets threshold requirements for the initiation of a new shipper review of shipments of freshwater crawfish tail meat from the PRC produced and exported by each new shipper applicant.⁸

⁸ See the memoranda to the file entitled “Freshwater Crawfish Tail Meat from the People's Republic of China: Initiation Checklist for Antidumping Duty New Shipper Review of Wuhan Coland Aquatic Products and Food Co., Ltd.” dated concurrently with this notice; “Freshwater Crawfish Tail Meat from the People's Republic of China: Initiation Checklist for Antidumping Duty New Shipper Review of Weishan Hongda Aquatic Food Co., Ltd.” dated concurrently with this notice; and “Freshwater Crawfish Tail Meat from the People's Republic of China: Initiation Checklist for Antidumping Duty New Shipper Review of Hubei Yuesheng Aquatic Products Co., Ltd.” dated concurrently with this notice. (Collectively, Initiation Checklists.)

The Department intends to issue the preliminary results of these new shipper reviews no later than 180 days from the date of initiation and the final results of the review no later than 90 days after the date the preliminary results are issued.⁹ It is the Department's usual practice, in cases involving non-market economy countries, to require that a company seeking to establish eligibility for an antidumping duty rate separate from the country-wide rate provide evidence of de jure and de facto absence of government control over the company's export activities. Accordingly, we will issue a questionnaire to each new shipper applicant which will include a section requesting information concerning its eligibility for a separate rate. The new shipper review of each new shipper applicant will be rescinded if the Department determines that each new shipper applicant has not demonstrated that it is eligible for a separate rate. In addition, the Department has concerns with certain information contained in entry data that the Department obtained from U.S. Customs and Border Protection (CBP). Due to the business proprietary nature of this information, please refer to the Initiation Checklists for further discussion. The Department intends to address these concerns after initiation of the new shipper reviews. If the Department subsequently determines, based on information collected, that a new shipper review for any applicant is not warranted, the Department may rescind the review or apply facts available pursuant to section 776 of the Act, as appropriate.

⁹ See section 751(a)(2)(B)(iv) of the Act and 19 CFR 351.214(i).

We will instruct CBP to allow, at the option of the importer, the posting, until the completion of the review, of a bond or security in lieu of a cash deposit for each entry of the subject merchandise from each new shipper applicant in accordance with section 751(a)(2)(B)(iii) of the Act and 19 CFR 351.214(e). Because each new shipper applicant certified that it produced and exported subject merchandise, the sale of which is the basis for the request for a new shipper review, we will apply the bonding privilege to each new shipper applicant only for subject merchandise which was produced and exported by each new shipper applicant.

To assist in its analysis of the bona fides of each new shipper applicant's sales, upon initiation of this new shipper review, the Department will require each new shipper applicant to submit on an ongoing basis complete transaction information concerning any sales of subject merchandise to the United States that were made subsequent to the POR.

Interested parties requiring access to proprietary information in the new shipper review should submit applications for disclosure under administrative protective order in accordance with 19 CFR 351.305 and 351.306.

This initiation and notice are published in accordance with section 751(a)(2)(B) of the Act and 19 CFR 351.214 and 351.221(c)(1)(i).

Dated: October 24, 2014.
Christian Marsh,
Deputy Assistant Secretary for Antidumping and Countervailing Duty Operations.

[FR Doc. 2014-25958 Filed 10-30-14; 8:45 am]

BILLING CODE 3510-DS-P